DEPARTMENT OF DEFENSE

Defense Finance and Accounting Service

Privacy Act of 1974; Systems of Records

AGENCY: Defense Finance and Accounting Service.

ACTION: Notice to add a new system of records.

SUMMARY: The Defense Finance and Accounting Service (DFAS) is proposing to add a system of records notice to its inventory of record systems subject to the Privacy Act of 1974, (5 U.S.C. 552a), as amended.

DATES: This Action will be effective without further notice on November 15, 2004 unless comments are received that would result in a contrary determination.

ADDRESSES: Send comments to the FOIA/PA Program Manager, Office of Corporate Communications, Defense Finance and Accounting Service, 6760 E. Irvington Place, Denver, CO 80279-8000.

FOR FURTHER INFORMATION CONTACT: Ms. Linda Krabbenhoft at (303) 676-7514.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on October 4, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 2996, 61 FR 6427).

Dated: October 7, 2004.
L.M. Bynum,
Alternate OSD Federal Register Liaison Officer, Department of Defense.

T7320

System Name:

Electronic Funds Transfer (EFT) Records.

System Locations:

Defense Finance and Accounting Service, Columbus, P.O. Box 182317 Columbus, OH 43218-2317

Defense Finance and Accounting Service, Cleveland, 1240 E. 9th Street, Cleveland, OH 44199-8002

Defense Finance and Accounting Service, Denver, 6760 E. Irvington Place, Denver, CO 80279-8000

Defense Finance and Accounting Service, Indianapolis, 8899 E. 56th St., Indianapolis, IN 46249-0100

Defense Finance and Accounting Service, Kansas City, 1500 E. Bannister Road, Kansas City, MO 64197-0001

Categories of Individuals Covered by the System:

Department of Defense (DoD) civilian personnel, and other U.S. government employees paid by DFAS; active military, former, and retired military members; Reserve and National Guard personnel; academy nominees, applicants, and cadets; dependents of military personnel; and foreign nationals residing in the United States, and all in receipt of payments from DFAS.

Categories of Records in the System:

Individual's Name, Social Security Number, home address, financial institution account number, account type, financial institution name, American Banking Association routing and transmittal number, lock box number, electronic funds transfer payment method, and electronic funds transfer waiver.

Authority for Maintenance of the System:

5 U.S.C. 301, Departmental Regulations; Pub. L. 104-134, Debt Collection Improvement Act of 1996; DoD Financial Management Regulation 7000.14-R, Volumes 7B, 7C, 8, Military Pay Policy and Procedures—Retired Pay, Military Pay Policy and Procedures—Active Duty and Reserve Pay, Civilian Pay Policy and Procedures; and E.O. 9397 (SSN).

Purpose(s):

The Electronic Funds Transfer Records will provide DoD with a central repository for military and civilian remittance information, which will be used to verify the validity of payee and financial institution accounts prior to issuing an electronic payment.

Routine Uses of Records Maintained in the System, Including Categories of Users and the Purposes of Such Uses:

In addition to those disclosures generally permitted under 5 U.S.C. 552a(b) of the Privacy Act, as amended, these records or information contained therein may specifically be disclosed outside the Department of Defense as a routine use pursuant to 5 U.S.C. 552a(b)(3) as follows:

To the U.S. Treasury Department to provide information on check issues and electronic funds transfers.

To the Internal Revenue Service to report taxable earnings and taxes withheld, accounting, and tax audits, and to compute or resolve tax liability or tax levies.

To the Social Security Administration to report earned wages by members for the Federal Insurance Contribution Act, accounting or tax audits, and death notices.

To the Department of Veterans Affairs to report compensation, waivers, and audits, life insurance accounting, disbursement and benefit determinations, and death notices.

To the American Red Cross and military relief societies to assist military personnel, and their dependents in determining the status of monthly pay, dependents' allotments, loans, and related financial transactions, and to perform other relief-related duties as requested by the service member.

To Federal Reserve banks to distribute payments made through the direct deposit system to financial organizations or their processing agents authorized by individuals to receive and deposit payments in their accounts.

The DoD ‘Blanket Routine Uses' published at the beginning of the Defense Finance and Accounting Service compilation of systems of records notices also apply to this system.

Disclosure to Consumer Reporting Agencies:

Disclosures pursuant to 5 U.S.C. 552a(b)(12) may be made from this system to ‘consumer reporting agencies' as defined in the Fair Credit Reporting Act, (15 U.S.C. 1681a(f)) or the Federal Claims Collection Act of 1966, (31 U.S.C. 3701(a)(3)). The purpose of this disclosure is to aid in the collection of outstanding debts owed to the Federal government; typically to provide an incentive for debtors to repay delinquent Federal government debts by making these debts part of their credit records.

The disclosure is limited to information necessary to establish the identity of the individual, including name, address, and taxpayer identification number (Social Security Number for individuals); the amount, status, and history of the claim; and the agency or program under which the claim arose for the sole purpose of allowing the consumer reporting agency to prepare a commercial credit report.

Policies and practices for storing, retrieving, accessing, retaining, and disposing of records in the system:

Storage:

The records are maintained in computers and computer output products; electronic storage media, and hard copy documents.

Retrievability:

Retrieved by entering the last four digits of the Social Security Number, and a portion of the person's last name.

Safeguards:

Records are stored in office buildings protected by guards, controlled screening, visitor registers are used, electronic access, and/or locks. Access to records is limited to individuals who are properly screened and cleared on a need-to-know basis in the performance of their official duties. Passwords and digital signatures are used to control access to the systems data, and procedures are in place to deter and detect browsing and unauthorized access. Physical and electronic access are limited to persons responsible for servicing and authorized to use the record system.

Retention and Disposal:

Records in this system are maintained for 6 years and 3 months after date of cutoff.

System Manager(s) and Address:

Director, Strategic Business Office, Defense Finance and Accounting Service, Columbus, P.O. Box 182317 Columbus, OH 43218-2317.

Notification Procedure:

Individuals seeking to determine whether information about themselves is contained in this system of records should address written inquiries to the Defense Finance and Accounting Service, Office of Corporate Communications, Freedom of Information Act/Privacy Act Program Manager, 6760 E. Irvington Place, Denver, CO 80279-8000.

Individual should provide their full name, Social Security Number, office or organization where currently assigned, if applicable, and current address, and telephone number.

Record Access Procedures:

Individuals seeking access to information about themselves contained in this system of records should address written inquiries to the Defense Finance and Accounting Service, Office of Corporate Communications, Freedom of Information Act/Privacy Act Program Manager, 6760 E. Irvington Place, Denver, CO 80279-8000.

Individual should provide their full name, Social Security Number, office or organization where currently assigned, if applicable, and current address, and telephone number.

Contesting Record Procedures:

The DFAS rules for accessing records, for contesting contents and appealing initial agency determinations are published in DFAS Regulation 5400.11-R; 32 CFR part 324; or may be obtained from the Defense Finance and Accounting Service, Office of Corporate Communications, Freedom of Information Act/Privacy Act Program Manager, 6760 E. Irvington Place, Denver, CO 80279-8000.

Record Source Categories:

Information is obtained from the Active Duty, Reserve, Guard, separated or retired military members, cadets, dependents, annuitants, and civilian employees.

Exemptions Claimed for the System:

None.

[FR Doc. 04-23120 Filed 10-14-04; 8:45 am]

BILLING CODE 5001-06-M